DEPARTMENT OF DEFENSE

Office of the Secretary

[Docket ID: DoD-2023-HA-0105]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 19, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to Technology Transfer Office, 59MDW/ST 1632 Nellis, Bldg. 5406, JBSA Lackland, TX 78236, Dr. Scott Walter, 210-292-7210.

SUPPLEMENTARY INFORMATION:

Title; Associated Form; and OMB Number: Fielding Successful Medical Products Survey; OMB Control Number 0720-VOIP.

Needs and Uses: Companies use multiple strategies, funding streams, and tactics to field medical products that the military can use in the Military Health System (MHS) and military operations. Little is known about the critical factors affecting medical product research, development, and acquisition by the DoD. This gap in knowledge hinders the DoD's ability to effectively influence the commercial development of life-saving medical technologies and impedes the DHA's and Services' advanced development functions.

As part of 59th Medical Wing's Science & Technology, Technology Transfer and Transition (59 MDW/ST-T3) Office's continuous process improvement effort, this proposed information collection will gather feedback from companies that have successfully developed and marketed commercially-available medical products to the DoD over the last five (5) years. The questionnaire elicits information about (a) funding streams, processes, ideas, partnerships, and pathways, (b) Food & Drug Administration (FDA) approval/clearance, (c) teaming arrangements, management strategies, and leadership approaches, and (d) barriers and enablers to marketing to the DoD.

By performing this market analysis, we aim to develop actionable, data-driven recommendations for improving acquisition of innovative medical solutions. An analysis of responses permits a clear understanding of how the DoD can influence, emulate, and facilitate successful production and provisioning of new/novel medical products (capabilities) to address existing requirements or enhance existing medical/health capabilities. Specifically, this effort will support the DHA's mission of driving innovative solutions to improve health and build readiness.

Affected Public: Individuals or households.

Annual Burden Hours: 25.

Number of Respondents: 50.

Responses per Respondent: 1.

Annual Responses: 50.

Average Burden per Response: 30 minutes.

Frequency: On occasion.

Dated: October 16, 2023.
Aaron T. Siegel,
Alternate OSD Federal Register Liaison Officer, Department of Defense.

[FR Doc. 2023-23144 Filed 10-19-23; 8:45 am]

BILLING CODE 6001-FR-P